DEPARTMENT OF HOMELAND SECURITY

Coast Guard

33 CFR Part 151

46 CFR Part 162

[Docket No. USCG-2001-10486]

RIN 1625-AA32

Standards for Living Organisms in Ships' Ballast Water Discharged in U.S. Waters

AGENCY: Coast Guard, DHS.

ACTION: Final rule; correction.

SUMMARY: The Coast Guard is correcting a final rule that appeared in the Federal Register of March 23, 2012 (77 FR 17254), entitled “Standards for Living Organisms in Ships' Ballast Water Discharged in U.S. Waters.” Six technical errors were inadvertently published in the final rule that require correction, two in the preamble and four in the regulatory text. The corrections are necessary for readability and accuracy.

DATES: This correction is effective on June 21, 2012.

FOR FURTHER INFORMATION CONTACT: If you have questions on this final rule, call or email Mr. John Morris, Project Manager, U.S. Coast Guard; telephone 202-372-1402, email environmental_standards@uscg.mil. If you have questions on viewing material on the docket, call Ms. Renee V. Wright, Program Manager, Docket Operations, telephone 202-366-9826.

SUPPLEMENTARY INFORMATION: The Coast Guard is correcting a final rule that appeared in the Federal Register of March 23, 2012 (77 FR 17254), entitled “Standards for Living Organisms in Ships' Ballast Water Discharged in U.S. Waters.” Six technical errors were inadvertently published in the final rule that require correction, two in the preamble and four in the regulatory text. The corrections are necessary for readability and accuracy.

The first preamble correction is to the Discussion of Comments and Changes/Summary of Changes from the NPRM/Applicability section (section V.A.3), where we revise our response to comments about non-seagoing vessel applicability by removing the words “U.S. Exclusive Economic Zone (EEZ)” and replacing them with “U.S. Exclusive Economic Zone and Canadian equivalent (EEZ; see 16 U.S.C. 4702)”. This correction is needed to align the preamble text with the existing definition of EEZ in 33 CFR 151.1504. The omission of the reference to the Canadian equivalent was a technical error, as the Coast Guard did not intend to change the applicable definition of EEZ in the discussion of the final rule. Additionally, the word “U.S.” is deleted from the abbreviation of EEZ in I. Abbreviations.

The second correction is to the Environment section (section VII.M) of the preamble, which incorrectly states that a separate Record of Decision is available in the docket where indicated under ADDRESSES. By reason of this being a rulemaking action under the Administrative Procedure Act, the final rule constitutes the Record of Decision and it was published on March 23, 2012, consistent with 40 CFR 1506.10(b).

The additional corrections are to the regulatory text. The first regulatory text corrections are to 33 CFR 151.1510(a)(1) and 151.1515(a). In those paragraphs, we delete the text “U.S.” prefacing the words “Exclusive Economic Zone (EEZ)”. These corrections are needed to align with the definition of EEZ applicable to this part, 33 CFR 151.1504. Two regulatory text corrections are grammatical corrections required to clarify 33 CFR 151.2005(b), “Definitions” and 46 CFR 162.060-22(a), “Marking requirements”. The final correction, to 46 CFR 162.060-42(a)(3), “Responsibilities for independent laboratories (ILs)”, corrects a mistake which had directed independent laboratories to provide the estimated date for commencement of type-approval testing to the “Commandant (CG-52), Commercial Regulations and Standards Directorate”. Notification should be provided to U.S. Coast Guard Marine Safety Center.

In FR doc 2012-6579 appearing on page 17254 in the issue of Friday, March 23, 2012, the following corrections are made:

1. On page 17254, in the third column, Abbreviations section, remove the word “U.S.” from the abbreviation for “EEZ”.

2. On page 17257, in the second column, in the last paragraph, remove the words “U.S. Exclusive Economic Zone (EEZ)” and add, in their place, the words “U.S. Exclusive Economic Zone and Canadian equivalent (EEZ; see 16 U.S.C. 4702)”.

3. On page 17304, in the first column, correct the paragraph following “M. Environment” to read as follows: “We have analyzed this rule under Department of Homeland Security Management Directive 023-01 and Commandant Instruction M16475.lD, which guide the Coast Guard in complying with NEPA (42 U.S.C. 4321-4370f), and have concluded that this action may have a significant effect on the human environment. A Final Programmatic Environmental Impact Statement is available in the docket where indicated under ADDRESSES, and includes a summary of our actions to comply with NEPA”.

§ 151.1510 [Corrected]

4. On page 17304, in the third column, in the first sentence under § 151.1510(a)(1), after the words “waters beyond the” remove the text “U.S.”.

§ 151.1515 [Corrected]

5. On page 17306, in the first column, in the first sentence under § 151.1515(a), after the words “before entering the” remove the text “U.S.”.

6. On page 17307, in the first column, in the second paragraph, under § 151.2005(b), revise paragraph (2) of the definition of “Exchange” to read as follows:

§ 151.2005 Definitions.

* * * * *

(b) * * *

Exchange * * *

(2) Empty/refill exchange means to pump out the ballast water taken on in ports, estuarine, or territorial waters until the pump(s) lose suction, then refilling the ballast tank(s) with mid-ocean water.

* * * * *

§ 162.060-22 [Corrected]

7. On page 17315, in the third column, in the third paragraph, under § 162.060-22(a), remove the word “for” and add, in its place, the word “under”.

8. On page 17320, in the second column, in the sixth paragraph, under § 162.060-42, revise paragraph (a)(3) to read as follows:

§ 162.060-42 Responsibilities for Independent Laboratories (ILs).

(a) * * *

(3) Upon determination that the BWMS is ready for testing, the independent laboratory will notify the Commanding Officer, U.S. Coast Guard Marine Safety Center, 2100 2nd St. SW., Stop 7102, Washington, DC 20593-7102, and provide the estimated date for commencement of type-approval testing.

* * * * *

Dated: June 4, 2012.
Kathryn A. Sinniger,
Chief, Office of Regulations and Administrative Law, U.S. Coast Guard.

[FR Doc. 2012-13888 Filed 6-7-12; 8:45 am]

BILLING CODE 9110-04-P